DEPARTMENT OF ENERGY

Federal Energy Regulatory Commission

Combined Notice of Filings #1

Take notice that the Commission received the following electric rate filings:

Docket Numbers: ER22-983-003.

Applicants: ISO New England Inc., New England Power Pool Participants Committee.

Description: ISO New England, Inc. submits a Compliance Filing with respect to additional filing requirements related to distributed energy resource aggregations' participation in the FCA18 and other markets as directed in3/1/2023 Commission Order.

Filed Date: 3/31/23.

Accession Number: 20230331-5602.

Comment Date: 5 p.m. ET 4/21/23.

Docket Numbers: ER23-1557-000.

Applicants: PJM Interconnection, L.L.C.

Description: Tariff Amendment: Cancellation of WMPA, Service Agreement No. 6212; Queue No. AG1-388 re: withdraw to be effective5/27/2023.

Filed Date: 4/3/23.

Accession Number: 20230403-5250.

Comment Date: 5 p.m. ET 4/24/23.

Docket Numbers: ER23-1558-000.

Applicants: AEP Texas Inc.

Description: § 205(d) Rate Filing: AEPTX-Coleman County EC-Golden Spread EC (Miles) FDA to be effective3/15/2023.

Filed Date: 4/3/23.

Accession Number: 20230403-5255.

Comment Date: 5 p.m. ET 4/24/23.

Docket Numbers: ER23-1559-000.

Applicants: Idaho Power Company.

Description: § 205(d) Rate Filing: Section 12 Amendment to be effective 6/6/2023.

Filed Date: 4/4/23.

Accession Number: 20230404-5029.

Comment Date: 5 p.m. ET 4/25/23.

Docket Numbers: ER23-1560-000.

Applicants: Pacific Gas and Electric Company.

Description: Notice of Termination of Service Agreement between Pacific Gas and Electric Company and Sunrise Power Company, LLC under Service Agreement No. 45 under FERC Electric Tariff Volume No. 5.

Filed Date: 3/30/23.

Accession Number: 20230330-5337.

Comment Date: 5 p.m. ET 4/20/23.

Docket Numbers: ER23-1561-000.

Applicants: Public Service Company of New Mexico.

Description: Annual Filing of Post-Employment Benefits Other than Pensions for 2023 of Public Service Company of New Mexico.

Filed Date: 3/31/23.

Accession Number: 20230331-5606.

Comment Date: 5 p.m. ET 4/21/23.

Docket Numbers: ER23-1562-000.

Applicants: Public Service Company of Colorado.

Description: Formula Rate Charges and Transmission Formula Rate Charges for 2022 Post-Retirement Benefits Other than Pension of Public Service Company of Colorado.

Filed Date: 4/4/23.

Accession Number: 20230404-5075.

Comment Date: 5 p.m. ET 4/25/23.

Docket Numbers: ER23-1563-000.

Applicants: Alabama Power Company, Georgia Power Company, Mississippi Power Company.

Description: § 205(d) Rate Filing: Alabama Power Company submits tariff filing per 35.13(a)(2)(iii: Chilatchee 115A LGIA Filing to be effective 3/21/2023.

Filed Date: 4/4/23.

Accession Number: 20230404-5130.

Comment Date: 5 p.m. ET 4/25/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2023.
Debbie-Anne A. Reese,
Deputy Secretary.

[FR Doc. 2023-07448 Filed 4-7-23; 8:45 am]

BILLING CODE 6717-01-P